DEPARTMENT OF STATE

[Public Notice 4944]

Notice of Receipt of Application for Presidential Permit To Expand the Mariposa Port of Entry at Nogales, Arizona

Notice is hereby given that the Department of State has received an application for a permit authorizing the construction, operation and maintenance of two additional commercial cargo lanes at the Mariposa Port of Entry at Nogales, Arizona. The application has been filed by the Border Trade Association Foundation of Phoenix, Arizona. The expansion project to be carried out in conjunction with the Department of Homeland Security and the Arizona Department of Transportation will enable reconfiguration of the Mariposa Port of Entry and the construction of two Free and Secure Trade (FAST) lanes. FAST lanes are dedicated commercial traffic lanes capable of rapidly screening and clearing trucks operated by certified low-risk shippers.

The Department's jurisdiction with respect to this application is based upon Executive Order 11423, dated August 16, 1968, as amended.

As required by E.O. 11423, the Department is circulating this application to concerned agencies for comment.

Interested persons may submit their views regarding this application in writing by January 30, 2005 to Mr. John A. Ritchie, Coordinator, U.S.-Mexico Border Affairs, Room 4258, Department of State, 2201 C St. NW., Washington, DC 20520.

The application and related documents made part of the record to be considered by the Department of State in connection with this application are available for review in the Office of Mexican Affairs during normal business hours throughout the comment period.

Any questions related to this notice may be addressed to Mr. Ritchie at the above address or by fax at (202) 647-5752.

Dated: July 15, 2003.
John A. Ritchie,
Coordinator US-Mexico Border Affairs.
Roberta S. Jacobson,
Director, Office of Mexican Affairs, Department of State.

Editorial Note: This document was received in the Office of the Federal Register on December 23, 2004.

[FR Doc. 04-28565 Filed 12-29-04; 8:45 am]

BILLING CODE 4710-29-P